FEDERAL TRADE COMMISSION

Revised Jurisdictional Thresholds for Section 7A of the Clayton Act

AGENCY: Federal Trade Commission.

ACTION: Notice.

SUMMARY: The Federal Trade Commission announces the revised thresholds for the Hart-Scott-Rodino Antitrust Improvements Act of 1976 required by the 2000 amendment of Section 7A of the Clayton Act.

DATES: February 28, 2018.

FOR FURTHER INFORMATION CONTACT: Robert Jones, Federal Trade Commission, Bureau of Competition, Premerger Notification Office, 400 7th Street SW, Room #5301, Washington, DC 20024, Phone (202) 326-3100.

SUPPLEMENTARY INFORMATION: Section 7A of the Clayton Act, 15 U.S.C. 18a, as added by the Hart-Scott-Rodino Antitrust Improvements Act of 1976, Public Law 94-435, 90 Stat. 1390 (“the Act”), requires all persons contemplating certain mergers or acquisitions, which meet or exceed the jurisdictional thresholds in the Act, to file notification with the Commission and the Assistant Attorney General and to wait a designated period of time before consummating such transactions. Section 7A(a)(2) requires the Federal Trade Commission to revise those thresholds annually, based on the change in gross national product, in accordance with Section 8(a)(5). Note that while the filing fee thresholds are revised annually, the actual filing fees are not similarly indexed and, as a result, have not been adjusted for inflation in over a decade. The new thresholds, which take effect 30 days after publication in the Federal Register, are as follows:

Subsection of 7A | Original threshold (million) | Adjusted threshold (million)
7A(a)(2)(A) | $200 | $337.6
7A(a)(2)(B)(i) | 50 | 84.4
7A(a)(2)(B)(i) | 200 | 337.6
7A(a)(2)(B)(ii)(i) | 10 | 16.9
7A(a)(2)(B)(ii)(i) | 100 | 168.8
7A(a)(2)(B)(ii)(II) | 10 | 16.9
7A(a)(2)(B)(ii)(II) | 100 | 168.8
7A(a)(2)(B)(ii)(III) | 100 | 168.8
7A(a)(2)(B)(ii)(III) | 10 | 16.9
Section 7A note: Assessment and Collection of Filing Fee ¹ (3)(b)(1) | 100 | 168.8
Section 7A note: Assessment and Collection of Filing Fees (3)(b)(2) | 100 | 168.8
Section 7A note: Assessment and Collection of Filing Fees (3)(b)(2) | 500 | 843.9
Section 7A note: Assessment and Collection of Filing Fees (3)(b)(3) | 500 | 843.9
¹ Public Law 106-553, Sec. 630(b) amended Sec. 18a note.

Any reference to these thresholds and related thresholds and limitation values in the HSR rules (16 CFR parts 801-803) and the Antitrust Improvements Act Notification and Report Form (“the HSR Form”) and its Instructions will also be adjusted, where indicated by the term “(as adjusted)”, as follows:

Original threshold | Adjusted threshold (million)
$10 million | $16.9
$50 million | 84.4
$100 million | 168.8
$110 million | 185.7
$200 million | 337.6
$500 million | 843.9
$1 billion | 1,687.8

By direction of the Commission.
Donald S. Clark,
Secretary.

[FR Doc. 2018-01579 Filed 1-26-18; 8:45 am]

BILLING CODE 6750-01-P